DEPARTMENT OF THE INTERIOR

Bureau of Land Management

[LLNVW01000.L144000000.EU0000.241A; N-98298; 15-08807; MO #4500089711; TAS: 15X]

Notice of Realty Action: Segregation and Classification for Conveyance for Recreation and Public Purposes Patent, in Humboldt County, NV

AGENCY: Bureau of Land Management, Interior.

ACTION: Notice.

SUMMARY: The Bureau of Land Management (BLM), Winnemucca District, Nevada, has found suitable for classification and conveyance 1,220 acres of public land in Humboldt County, Nevada, under the provisions of the Recreation and Public Purposes (R&PP) Act, as amended, and provisions of the Taylor Grazing Act. The City of Winnemucca proposes to use the land for a new wastewater treatment and effluent disposal facility to serve Winnemucca, Nevada.

DATES: Submit written comments regarding this conveyance, classification, segregation, on or before May 26, 2016.

ADDRESSES: Send written comments to Stephen Sappington, Field Manager, BLM Humboldt River Field Office, 5100 E. Winnemucca Blvd., Winnemucca, Nevada 89445.

FOR FURTHER INFORMATION CONTACT: Kurt Miers, Project Lead, by telephone at 775-623-1569 or email at wfoweb@blm.gov with City of Winnemucca R&PP (Miers) in the subject line. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The City of Winnemucca proposes to construct a new wastewater treatment and effluent disposal facility in order to facilitate expansion/growth in the area. The current facility has been deemed by the USEPA and NDEP to be located in a floodplain, creating a potential contamination source for the Humboldt River. Accordingly, a new facility must be constructed at a different location. The sale parcel is described as:

Mount Diablo Meridian, Nevada

T. 36 N., R. 37 E.,

Sec. 28;

Sec. 32, NE¼, NW¼, SW¼, N½, SE¼, and W½, SW¼, SE¼.

The areas described aggregate 1,220 acres.

640 acres located in T. 36 N., R 37 E., sec. 28, will be patented in year one, with 580 acres of T. 36 N., R. 37 E., sec. 32, to be patented in subsequent years in compliance with R&PP regulations.

The new plan of development will consist of a new wastewater treatment and effluent disposal plant, and effluent disposal facilities that include an effluent pipeline, rapid infiltration basins; a storage basin, an influent pumping station; and irrigation pivots.

The land is not required for any Federal purpose. The conveyance is consistent with the BLM Winnemucca District Office Resource Management Plan and the Record of Decision, dated May 2015, and is in the public interest. This proposal was analyzed as Environmental Assessment DOI-BLM-NV-W010-2014-0031.

The conveyance will be subject to the provisions of the R&PP Act and applicable regulations and will be subject to the following terms, conditions, and reservations of the United States:

1. A right-of-way is reserved for ditches and canals constructed by the authority of the United States, Act of August 30, 1890 (43 U.S.C. 945);

2. All mineral deposits in the lands so patented, and to it, or persons authorized by it, the right to prospect for, mine and remove such deposits from the same under applicable law and such regulations as the Secretary of the Interior may deem necessary are reserved to the United States, together with all necessary access and exit rights;

3. The parcel is subject to valid existing rights;

4. An appropriate indemnification clause protecting the United States from claims arising out of the patentee's use, occupancy, or occupation on the leased/patented lands;

5. No portion of the land patented shall revert back to the United States under any circumstance.

6. Additional terms and conditions that the authorized officer deems appropriate. Upon publication of this Notice in the Federal Register, the parcel will be segregated from all other forms of appropriation under the public land laws, including the mining laws, except for conveyance under the R&PP Act, but not leasing under the mineral leasing laws and the mineral material disposal laws.

Written comments may be submitted concerning the suitability of the land for development for a new wastewater treatment and effluent disposal facility. Comments on the classification are restricted to whether the land is physically suitable for the proposed use, whether the use will maximize the future use or uses of the land, whether the use is consistent with local planning and zoning, or whether the use is consistent with state and Federal programs. Written comments can be submitted by postal service or overnight mail to the Field Manager, BLM Humboldt River Field Office. The land will not be offered for conveyance until after the classification becomes effective.

Before including your address, phone number, email address, or other personal identifying information in your comment, you should be aware that your entire comment—including your personal identifying information—may be made publicly available at any time. While you can ask us in your comment to withhold your personal identifying information from public review, we cannot guarantee that we will be able to do so.

Any comments regarding this sale will be reviewed by the BLM Nevada State Director who may sustain, vacate, or modify this realty action. In the absence of any adverse comments, this realty action will become the final determination of the Department of Interior.

Authority: 43 CFR 2741.5

David Kampwerth,
Field Manager, Humboldt River Field Office.

[FR Doc. 2016-08254 Filed 4-8-16; 8:45 am]

BILLING CODE 4310-HC-P